DEPARTMENT OF ENERGY

Energy Information Administration

Agency Information Collection; Proposed New Survey

AGENCY: U.S. Energy Information Administration (EIA), Department of Energy (DOE).

ACTION: Notice and request for comments.

SUMMARY: DOE requests a three-year extension, with changes, to Form DOE-417 Electric Emergency Incident and Disturbance Report, OMB Control Number 1901-0288, as required under the Paperwork Reduction Act of 1995. Form DOE-417 collects information for DOE to monitor electric emergency incidents and disturbances in the United States (including all 50 States, the District of Columbia, Puerto Rico, the U.S. Virgin Islands, and the U.S. Territories). The information collected allows DOE to conduct post-incident reviews examining significant interruptions of electric power or threats to the national electric system.

DATES: DOE must receive all comments on this proposed information collection no later than October 30, 2023. If you anticipate any difficulties in submitting your comments by the deadline, contact the person listed in the ADDRESSES section of this notice as soon as possible.

ADDRESSES: Written comments may be sent to DOE-417 Recertification, C/O Matthew Tarduogno, U.S. Department of Energy, 1000 Independence Avenue SW, Washington, DC 20585, or by email at OE417@hq.doe.gov.

FOR FURTHER INFORMATION CONTACT: Matthew Tarduogno, U.S. Department of Energy, 1000 Independence Avenue SW, Washington, DC 20585, matthew.tardugono@hq.doe.gov, (202) 586-2892. The forms and instructions are available online at: https://www.oe.netl.doe.gov/oe417.aspx. You can view DOE-417 Electric Emergency Incident and Disturbance Report online at https://www.oe.netl.doe.gov/oe417.aspx.

SUPPLEMENTARY INFORMATION: This information collection request contains: (1) OMB No.: 1901-0288.

(2) Information Collection Request Title: Electric Emergency Incident and Disturbance Report.

(3) Type of Request: Renewal with changes.

(4) Purpose: DOE uses Form DOE-417 Emergency Incident and Disturbance Report to monitor electric emergency incidents and disturbances in the United States (including all 50 States, the District of Columbia, Puerto Rico, the U.S. Virgin Islands, and the U.S. Territories) and to investigate significant interruptions of electric power or threats to the electric system reliability. Form DOE-417 also enables DOE to meet the Department's national security responsibilities as the coordinating agency for Emergency Support Function (ESF) #12—Energy, under the National Response Framework, and the Sector-Specific Agency for the energy sector, pursuant to Presidential Policy Directive 21—Critical Infrastructure Security and Resilience, Presidential Policy Directive 41—United States Cyber Incident Coordination, and the Fixing Americas Surface Transportation (FAST) Act, Public Law 114-94. The information may also be shared with other non-regulatory federal agencies assisting in emergency response and recovery operations or investigating the causes of an incident or disturbance to the national electric system. Public summaries are published on Form DOE-417 web page at https://www.oe.netl.doe.gov/oe417.aspx on a monthly basis to keep the public informed.

(4a) Proposed Changes to Information Collection: Proposed changes to Form DOE-417 continue to ensure future alignment with the North American Electric Reliability Corporation (NERC) CIP-008-6 Reliability Standard, as well as the NERC EOP-004-6 Reliability Standard, and potential future changes. The continued alignment between Form OE-417 and NERC reporting requirements helps minimize confusion among industry stakeholders about where and how to file reports and enable industry stakeholders to train personnel to report using a single form. Additional changes to Form DOE-417 clarify reporting criteria and updates types of entities that are required to submit certain criteria. A summary of these and other changes to Form DOE-417 is provided below:

• Minor edit to alert criteria 2 to add “as defined in the NERC Glossary of Terms”

• Under “Criteria for Filing” section, added alert criteria 27, “Uncontrolled loss of a total of 500 MW of more from inverter-based resource(s) for greater than 30 minutes at a common point of interconnection to the bulk electric system.”

• Under “Cause” in the “Type of Emergency” section, added the following subcategories to physical attack:

○ Ballistic

○ Arson

○ Explosive device

○ Other

• Under “Cause” in the “Type of Emergency” section, added the following subcategories to suspicious activity:

○ Aircraft or Unmanned Aerial System (UAS)

○ Trespassing or non-destructive intrusion

○ Surveillance

○ Vandalism

○ Other

• Under “Cause” in the “Type of Emergency”, combined “Cyber event information technology” and “Cyber Event (operational technology)” and added the following subcategories:

○ Information Technology

○ Operational Technology

• Updated Instructions: Replaced “Office of Electricity” with “Office of Cybersecurity, Energy Security, and Emergency Response.

• Updated Instructions: Replaced “Assistant Secretary” with “Director.”

• Update Instructions: Appendix A. Replace “What is Excluded” text for generating entities with “For entities who have 300 MW or more of generation there are no exclusions allowed. All items need to be addressed.”

(5) Annual Estimated Number of Respondents: 1,749.

(6) Annual Estimated Number of Total Responses: 400.

(7) Annual Estimated Number of Burden Hours: 4,175.

(8) Annual Estimated Reporting and Recordkeeping Cost Burden: $364,728.

Comments are invited on whether or not: (a) The proposed collection of information is necessary for the proper performance of agency functions, including whether the information will have a practical utility; (b) DOE's estimate of the burden of the proposed collection of information, including the validity of the methodology and assumptions used, is accurate; (c) DOE can improve the quality, utility, and clarity of the information it will collect; and (d) DOE can minimize the burden of the collection of information on respondents, such as automated collection techniques or other forms of information technology.

Statutory Authority: 15 U.S.C. 772(b), 764(b); 764(a); and 790a and 42 U.S.C. 7101 et seq. and the Public Utility Regulatory Policies Act of 1978 (16 U.S.C. 2601, Pub. L. 93-275.

Signed in Washington, DC, on August 24, 2023.
Samson A. Adeshiyan,
Director, Office of Statistical Methods & Research, U. S. Energy Information Administration.

[FR Doc. 2023-18729 Filed 8-29-23; 8:45 am]

BILLING CODE 6450-01-P